DEPARTMENT OF ENERGY

[GDO Docket No. EA-284-G]

Application for Renewal of Authorization To Export Electric Energy; Calpine Energy Solutions, LLC

AGENCY: Grid Deployment Office, Department of Energy.

ACTION: Notice of application.

SUMMARY: Calpine Energy Solutions, LLC (the Applicant or Calpine Solutions) has applied for the renewal of authorization to transmit electric energy from the United States to Mexico pursuant to the Federal Power Act.

DATES: Comments, protests, or motions to intervene must be submitted on or before January 21, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On November 22, 2024, Calpine Solutions filed an application for the renewal of authorization to transmit electric energy from the United States to Mexico for a term of five years. App. at 1.

According to the Application, Calpine Solutions is “a California limited liability company with its principal place of business at 401 West A Street, Suite 400, San Diego, California, and is an indirect, wholly owned subsidiary of Calpine Corporation.” Id. The Applicant represents that its wholesale sales “are made pursuant to authority granted by the Federal Energy Regulatory Commission (“FERC”) to sell wholesale power at market-based rates under a wholesale power sales tariff currently on file with FERC.” Id. at 1-2.

The Applicant states it “does not own or control electric generation, transmission, cogeneration facilities, or distribution facilities, nor does [it] have a franchised service area.” App. at 5. Calpine Solutions states that any electric energy it exports “on either a firm or interruptible basis, will be surplus to the system of the generator thereof.” Id. Thus, the Applicant states that “its exports cannot have any adverse impact on the reliability, stability, or sufficiency of supply on a franchise electric supply system or the electric power supply within the U.S.” Id. at 5-6.

Further, regarding the second criterion used to analyze applications to export electricity, Calpine Solutions states it “will comply with existing industry procedures for obtaining transmission capacity” and “will comply with any other export limits that DOE may deem appropriate, consistent with DOE's orders authorizing exports of electric energy by power marketers.” App. at 6-7.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Calpine Solutions' Application should be clearly marked with GDO Docket No. EA-284-G. Additional copies are to be provided directly to Rachael Marsh, Calpine Corporation, 875 15th Street NW, Suite 700, Washington, DC 20005, rachel.marsh@calpine.com, and Greg Bass, Calpine Energy Solutions, LLC, 401 West A Street, Suite 500, San Diego, CA 92101, greg.bass@calpine.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 13, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 16, 2024.
Treena V. Garrett,
Federal Register Liaison Officer, U.S. Department of Energy.

[FR Doc. 2024-30221 Filed 12-18-24; 8:45 am]

BILLING CODE 6450-01-P